DEPARTMENT OF COMMERCE

International Trade Administration

[Application No. 14-4A004]

Export Trade Certificate of Review

ACTION: Notice of Issuance of an Amended Export Trade Certificate of Review to DFA of California, Application No. 14-4A004.

SUMMARY: The U.S. Department of Commerce issued an amended Export Trade Certificate of Review to DFA of California (“DFA”) on August 21, 2018.

FOR FURTHER INFORMATION CONTACT: Joseph Flynn, Director, Office of Trade and Economic Analysis, International Trade Administration, by telephone at (202) 482-5131 (this is not a toll-free number) or email at etca@trade.gov.

SUPPLEMENTARY INFORMATION: Title III of the Export Trading Company Act of 1982 (15 U.S.C. Sections 4001-21) authorizes the Secretary of Commerce to issue Export Trade Certificates of Review. The regulations implementing Title III are found at 15 CFR part 325 (2018). The U.S. Department of Commerce, International Trade Administration, Office of Trade and Economic Analysis (“OTEA”) is issuing this notice pursuant to 15 CFR 325.6(b), which requires the Secretary of Commerce to publish a summary of the issuance in the Federal Register. Under Section 305(a) of the Export Trading Company Act (15 U.S.C. 4012(b)(1)) and 15 CFR 325.11(a), any person aggrieved by the Secretary's determination may, within 30 days of the date of this notice, bring an action in any appropriate district court of the United States to set aside the determination on the grounds that the determination is erroneous.

Description of Certified Conduct

DFA's Export Trade Certificate of Review has been amended to:

1. Add the following new Member of the Certificate within the meaning of section 325.2(1) of the Regulations (15 CFR 325.2(1)): John B. SanFilippo & Son, Inc.

DFA's amendment of its Export Trade Certificate of Review results in the following membership list:

1. Alpine Pacific Nut Company, Hughson, CA

2. Andersen & Sons Shelling, Vina, CA

3. Avanti Nut Company, Inc., Stockton, CA

4. Berberian Nut Company, LLC, Chico, CA

5. Carriere Family Farms, Inc., Glenn, CA

6. California Almond Packers and Exporters, Inc. (CAPEX), Corning CA

7. California Walnut Company, Inc., Los Molinos, CA

8. Chico Nut Company, Chico, CA

9. Continente Nut LLC, Oakley, CA

10. C. R. Crain & Sons, Inc., Los Molinos, CA

11. Crain Walnut Shelling, Inc., Los Molinos, CA

12. Diamond Foods, LLC, Stockton, CA

13. Empire Nut Company, Colusa, CA

14. Fig Garden Packing, Inc., Fresno, CA

15. Gold River Orchards, Inc., Escalon, CA

16. Grower Direct Nut Company, Hughson, CA

17. Guerra Nut Shelling Company, Hollister, CA

18. Hill View Packing Company Inc., Gustine, CA

19. John B. SanFilippo & Son, Inc.

20. Mariani Nut Company, Winters, CA

21. Mariani Packing Company, Inc., Vacaville, CA

22. Mid Valley Nut Company Inc., Hughson, CA

23. Morada Nut Company, LP, Stockton, CA

24. National Raisin Company, Fowler, CA

25. O-G Nut Company, Stockton, CA

26. Omega Walnut, Inc., Orland, CA

27. Pearl Crop, Inc., Stockton, CA

28. Poindexter Nut Company, Selma, CA

29. Prima Noce Packing, Linden, CA

30. RPC Packing Inc., Porterville, CA

31. Sacramento Packing, Inc., Yuba City, CA

32. Sacramento Valley Walnut Growers, Inc., Yuba City, CA

33. San Joaquin Figs, Inc., Fresno, CA

34. Shoei Foods USA Inc., Olivehurst, CA

35. Stapleton-Spence Packing, Gridley, CA

36. Sun-Maid Growers of California, Kingsburg, CA

37. Sunsweet Growers Inc., Yuba City, CA

38. Taylor Brothers Farms, Inc., Yuba City, CA

39. T.M. Duche Nut Company, Inc., Orland, CA

40. Wilbur Packing Company, Inc., Live Oak, CA

41. Valley Fig Growers, Fresno, CA

Dated: August 22, 2018.
Joseph Flynn,
Office of Trade and Economic Analysis, International Trade Administration.

[FR Doc. 2018-18686 Filed 8-28-18; 8:45 am]

BILLING CODE 3510-DR-P